DEPARTMENT OF THE INTERIOR

Bureau of Land Management

[BLM_NV_FRN_MO4500169100]

Notice of Intent To Prepare an Environmental Impact Statement for the Proposed Robertson Mine Project, Lander County, Nevada

AGENCY: Bureau of Land Management, Interior.

ACTION: Notice of intent.

SUMMARY: In compliance with the National Environmental Policy Act of 1969, as amended (NEPA), and the Federal Land Policy and Management Act of 1976, as amended (FLPMA), the Bureau of Land Management (BLM) Mount Lewis Field Office, Battle Mountain, Nevada intends to prepare an Environmental Impact Statement (EIS) to consider the effects of Nevada Gold Mines LLC's (NGM's) Robertson Mine Project (Project) in Lander County, Nevada. This notice announces the beginning of the scoping process to solicit public comments and identify issues and alternatives; it also serves to initiate public consultation, as required, under the National Historic Preservation Act (NHPA).

DATES: This notice initiates the public scoping process for the EIS, which will run through September 18, 2023. Scoping comments may be submitted in writing until September 18, 2023. The date(s) and location(s) of the scoping meetings will be announced at least 15 days in advance through local media and newspapers and the project's website at https://eplanning.blm.gov/eplanning-ui/project/2023088/510. In order to be considered during the preparation of the Draft EIS, all scoping comments must be received prior to the close of the 30-day scoping period or 15 days after the last public meeting, whichever is later. The BLM will provide additional opportunities for public participation upon publication of the Draft EIS.

ADDRESSES: You may submit comments related to the Robertson Mine Project by any of the following methods:

• Website: https://eplanning.blm.gov/eplanning-ui/project/2023088/510.

• Email: egilseth@blm.gov.

• Fax: (775) 635-4034.

• Mail: BLM Battle Mountain District Office, Attn: Robertson Mine Project, 50 Bastian Road, Battle Mountain, NV 89820.

Documents pertinent to this proposal may be examined online at https://eplanning.blm.gov/eplanning-ui/project/2023088/510 and at the Mount Lewis Field Office.

FOR FURTHER INFORMATION CONTACT: Gene Gilseth, Project Manager, telephone (775) 635-4020; address BLM Battle Mountain District Office, Attn: Robertson Mine Project, 50 Bastian Road, Battle Mountain, NV 89820; email egilseth@blm.gov. Contact Mr. Gilseth to have your name added to our mailing list. Individuals in the United States who are deaf, deafblind, hard of hearing, or have a speech disability may dial 711 (TTY, TDD, or TeleBraille) to access telecommunications relay services for contacting Mr. Gilseth. Individuals outside the United States should use the relay services offered within their country to make international calls to the point-of-contact in the United States.

SUPPLEMENTARY INFORMATION: Based on the submitted proposed Plan of Operations, NGM is proposing to construct, operate, close, and reclaim a new surface mine within the Shoshone Range approximately 58 miles southeast of Battle Mountain, Nevada, and 70 miles southwest of Elko, Nevada.

The proposed Robertson Mine Plan of Operations boundary would encompass 5,990 acres. The total disturbance associated with the proposed action, including existing, reclassified, and exploration, would be 4,306 acres, with 4,127 acres on land administered by the BLM and 179 acres on private land. The proposed surface mining activities for the Robertson Mine would include:

• Three open pits (Gold Pan, Porphyry, and Altenburg Hill) and associated haul roads;

• A waste rock facility;

• A heap leach facility including a lined pad, process solution ponds and vaults, and a carbon-in-column plant;

• Ancillary facilities including a three-stage crushing system with associated conveyors; ore stockpiles; growth media stockpiles; a gravel borrow source; secondary roads; stormwater controls and diversions; truck scale; power lines and electrical substations; water production, dewatering, and monitoring wells; water pipelines and loadouts; ready lines; fuel and reagent storage; fueling facilities; laydown yards; wildlife and range fencing; an assay laboratory; trailers; buildings; and communications sites;

• Shared facilities with the Pipeline Complex at the Cortez Mine, including but not limited to haul roads; a potable water well; water pipelines; warehousing and maintenance shops; hazardous waste storage; a petroleum-contaminated soils facility; ore stockpiles; the Pipeline Mill; carbon handling; refinery; laboratory; and Pipeline Area 28 tailings storage facility; and

• Modifying the authorized Robertson Exploration Plan (NVN-067688) (Exploration Plan) boundary.

Additionally, the proposed action would result in changes to the boundaries of the authorized Exploration Plan boundary, the Cortez Mine Plan boundary, and the Pipeline-South Pipeline-Gold Acres Exploration Plan boundary. These authorized plans would be modified subsequent to the approval of the Project Plan.

The project would employ a contractor workforce of approximately 150 employees during the initial two-year construction period, and approximately 415 full-time employees, comprised of approximately 370 existing Cortez Mine employees and 45 new hires, for the operations period.

The proposed project would operate 24 hours per day, 365 days per year. The total life of the project would be 15 years, including nine years of mining, three additional years of ore processing, and three additional years of reclamation. Reclamation of disturbed areas resulting from mining operations would be completed in accordance with BLM and Nevada Division of Environmental Protection regulations. Concurrent reclamation would take place where practicable and safe.

Purpose and Need for the Proposed Action

The BLM's purpose is to respond to NGM's proposal as described in the Plan of Operations and to analyze the environmental effects associated with the proponent's proposed action and alternatives to the proposed action, consider reasonable alternatives, and develop and consider mitigation when necessary to mitigate environmental impacts. The NEPA mandates that the BLM evaluate the effects of the proposed action and develop alternatives and mitigation, when necessary, to lessen any effects to environmental resources.

The need for the action is established by the BLM's responsibilities under the Mining Law of 1872, Section 302 of FLPMA, and the BLM Surface Management Regulations at 43 CFR 3809. Under these statutes and regulations, BLM is required to review the Project and ensure that the NGM activities include appropriate reclamation and do not cause unnecessary or undue degradation of the public lands.

Preliminary Proposed Action and Alternatives

The proposed action consists of the Plan of Operations as submitted by NGM. Additional alternatives to be considered include the No Action Alternative and a Partial Pit Backfill Alternative.

The Partial Pit Backfill Alternative would include a partial backfill of the Gold Pan pit to prevent a pit lake from forming while maintaining a terminal pit lake system through capillary evaporation from the backfill surface. Approximately 16 million tons of additional waste rock would be moved from the waste rock facility back into the Gold Pan pit. No additional disturbance is anticipated to be required for this alternative, and backfilling would occur during final reclamation but is not anticipated to increase the reclamation schedule.

Under the No Action Alternative, the development of the Robertson Mine Project would not be authorized, and NGM would not construct, operate, and close a new surface mine. Modifications to the Exploration Plan boundary, the Cortez Mine Plan boundary, and the Pipeline-South Pipeline-Gold Acres Exploration Plan boundary would not occur.

The BLM welcomes comments on all preliminary alternatives as well as suggestions for additional alternatives.

Summary of Expected Impacts

Primary impacts from the Robertson Mine Project that will be analyzed in the EIS include potential impacts to surface and groundwater resources (water quality and quantity), aesthetics (visual and noise), air quality including greenhouse gases and climate change, cultural resources and historic properties, wildlife resources including special status species, vegetation and soil resources, livestock grazing, and traffic generation. A summary of potential impacts include:

• Cultural Resources Native American Concerns: Up to 17 National Register of Historic Places-eligible or unevaluated cultural properties would be physically altered, resulting in an adverse effect to these cultural sites. Vegetation communities important to Native American traditional values may be impacted by the proposed action.

• Wildlife Resources: Potential impacts include habitat change, habitat loss, alterations to water sources, fatalities as a result of collisions with vehicles, displacement due to human activity and disturbance, and impediments to movement through corridors.

• BLM Sensitive Species: For greater sage-grouse, the proposed action would remove a total of 2,514 acres of the mapped habitat, including 486 acres of General Habitat Management Areas, 1,983 acres of Other Habitat Management Areas, and 3,521 acres of Non-habitat. For golden eagles, the proposed action would result in the removal of approximately 3,998 acres of foraging habitat. Additionally, one golden eagle territory occurs within one mile of the proposed project disturbance and blasting area.

• Aesthetics (visual and noise): Potential impacts to visual resources include the addition of form, line, texture, and color to the existing landscape. Potential impacts include an increase in noise generation.

• Air Quality: Air quality modeling has determined that impacts from the proposed action would not exceed National Ambient Air Quality Standards for PM10, PM2.5, CO, NOX, and SO2. Total facility-wide Hazardous Air Pollutants (HAP) are estimated to be 10.32 tons per year (tpy), with 3.24 tpy of the highest single HAP, hydrogen cyanide. The facility-wide HAP emissions are within U.S. Environmental Protection Agency thresholds. Greenhouse gas emissions from operations, including off-site ore transport, are estimated to be 148,542 tpy CO2e. Mercury emissions are estimated to be 2.87 pounds per year.

• Water Resources (Surface and Groundwater): Potential impacts to seep, spring, and stream flow may occur from proposed dewatering operations if the source of the water is connected to the regional aquifer. Dewatering operations would also result in a lowering of the local groundwater table, and a pit lake would form post mining in the Gold Pan pit. Sedimentation and erosion may also occur due to project-related disturbance.

• Traffic: Traffic on transportation routes within the area of analysis would potentially increase by up to 300 Annual Average Daily Traffic (AADT) during construction, 190 AADT during operations, and 20 AADT during closure. The addition of project traffic is not anticipated to lower the level of service of the roadways and intersections.

• Livestock Grazing: The proposed action would result in new surface disturbance of 4,606 acres, which would impact forage utilized by livestock. Approximately 219 Animal Unit Months would be impacted in the Carico Lake Allotment.

• Vegetation and Soils: The proposed action would result in disturbance to soil and removal of vegetation on 3,998 acres.

Schedule for the Decision-Making Process

The BLM will provide additional opportunities for public participation consistent with the NEPA process, including a 45-day comment period on the Draft EIS. The Draft EIS is anticipated to be available for public review Fall 2023 and the Final EIS is anticipated to be released in Spring 2024 with a Record of Decision in Spring 2024.

Public Scoping Process

This notice of intent initiates the scoping period. The BLM will be holding two virtual public scoping meetings. The specific dates and times of these scoping meetings will be announced in advance through local newspaper publications and the BLM National NEPA Register project page at https://eplanning.blm.gov/eplanning-ui/project/2023088/510.

Lead and Cooperating Agencies

The BLM Mount Lewis Field Office is serving as the lead federal agency for preparing the EIS. Cooperating agencies for this analysis include the U.S. Environmental Protection Agency, U.S. Fish and Wildlife Service, Nevada Department of Wildlife, Eureka County, and Lander County.

Responsible Official

Douglas W. Furtado, District Manager, Battle Mountain District Office

Nature of Decision To Be Made

The BLM's decision relative to the EIS that will be prepared for the Robertson Mine Project will consider the following: (1) approval of the proposed Project Plan to authorize the proposed activities without modifications or additional mitigation measures; (2) approval of the proposed Project Plan with additional mitigation measures that the BLM deems necessary to prevent unnecessary or undue degradation of public lands; (3) approval of the Robertson Mine Project Plan of Operations with one of the alternatives analyzed in the EIS; or (4) denial of the proposed Project Plan and associated activities.

Additional Information

The BLM will identify, analyze, and consider mitigation to address the reasonably foreseeable impacts to resources from the proposed action and all analyzed reasonable alternatives and, in accordance with 40 CFR 1502.14(e), include appropriate mitigation measures not already included in the proposed action or alternatives. Mitigation may include avoidance, minimization, rectification, reduction or elimination over time, and compensation, and may be considered at multiple scales, including the landscape scale.

The BLM will utilize and coordinate the NEPA process to help support compliance with applicable procedural requirements under the Endangered Species Act (16 U.S.C. 1536) and Section 106 of the NHPA (54 U.S.C. 306108) as provided in 36 CFR 800.2(d)(3), including public involvement requirements of Section 106. Information about historic and cultural resources and threatened and endangered species within the area potentially affected by the proposed plan will assist the BLM in identifying and evaluating impacts to such resources.

The BLM will consult with Indian Tribal Nations on a government-to-government basis in accordance with Executive Order 13175, BLM MS 1780, and other Departmental policies. Tribal concerns, including impacts on Indian trust assets and potential impacts to cultural resources, will be given due consideration. Federal, State, and local agencies, along with Indian Tribal Nations and other stakeholders that may be interested in or affected by the proposed Robertson Mine Project that the BLM is evaluating, are invited to participate in the scoping process and, if eligible, may request or be requested by the BLM to participate in the development of the environmental analysis as a cooperating agency.

Before including your address, phone number, email address, or other personal identifying information in your comment, you should be aware that your entire comment—including your personal identifying information—may be made publicly available at any time. While you can ask us in your comment to withhold your personal identifying information from public review, we cannot guarantee that we will be able to do so.

(Authority: 40 CFR 1501.9)

Douglas W. Furtado,
District Manager, Battle Mountain District.

[FR Doc. 2023-17779 Filed 8-17-23; 8:45 am]

BILLING CODE P